DEPARTMENT OF ENERGY

Federal Energy Regulatory Commission

[Project No. 4718-011]

Cocheco Falls Associates; Notice of Availability of Environmental Assessment

December 18, 2001.

An environmental assessment (EA) is available for public review. The EA is for petitions to revise the license for the Cocheco Falls Project with respect to fish passage. The EA recommends reasonable modifications to project structures and operation to benefit fish passage and that such modifications would not constitute a major federal action significantly affecting the quality of the human environment.

The EA was written by staff in the Office of Energy Projects, Federal Energy Regulatory Commission. Copies of the EA can be viewed in the Reference and Information Center, Room 2A, of the Commission's Offices at 888 First Street, NE., Washington, DC 20426. The EA may also be viewed on the web at http://www.ferc.gov using the “RIMS” link-select “Docket #” and follow the instructions (call 202-208-2222 for assistance).

Comments on the EA are invited. Any comments, conclusions, or recommendations that draw upon studies, reports, or other working papers for substance should be supported by appropriate documentation. Comments should be filed within 30 days from the date of this notice with Linwood A. Watson, Jr., Acting Secretary, 888 First Street, NE., Washington, DC 20426, and should reference Project No. 4718.

For further information, please contact Mr. Robert H. Grieve at (202) 219-2655.

Linwood A. Watson, Jr.,
Acting Secretary.

[FR Doc. 01-31596 Filed 12-21-01; 8:45 am]

BILLING CODE 6717-01-P